DEPARTMENT OF THE INTERIOR

Fish and Wildlife Service

[FWS-R2-R-2012-N160; FXRS12610200000S3-123-FF02R06000]

Texas Mid-Coast National Wildlife Refuge Complex, Brazoria, Fort Bend, Matagorda, and Wharton Counties, TX; Comprehensive Conservation Plan and Environmental Assessment

AGENCY: Fish and Wildlife Service, Interior.

ACTION: Notice of availability; request for comments.

SUMMARY: We, the U.S. Fish and Wildlife Service, announce the availability of a draft comprehensive conservation plan (CCP) and an environmental assessment (EA) for public review and comment. The draft CCP/EA describes our proposal for managing the Texas Mid-Coast National Wildlife Refuge Complex for the next 15 years. The Complex, which includes Brazoria, San Bernard, and Big Boggy National Wildlife Refuges (NWRs), is located approximately 50 miles south of Houston, Texas.

DATES: To ensure consideration, please send your written comments by August 15, 2012. We will announce upcoming public meetings in local news media.

ADDRESSES: You may submit comments or requests for copies or more information on the Draft CCP/EA by any of the methods listed below. You may request hard copies or a CD-ROM of the documents. Please contact Jennifer Sanchez, Project Leader, or Carol Torrez, Lead Planner/R2 NWRS NEPA Coordinator.

Email: carol_torrez@fws.gov. Include “TMC NWR Complex Draft CCP and EA” in the subject line of the message.

Fax: Attn: Carol Torrez, 505-248-6803.

U.S. Mail: Carol Torrez, Lead Planner/NWRS NEPA Coordinator, U.S. Fish and Wildlife Service, NWRS Division of Planning, P.O. Box 1306, Albuquerque, NM 87103.

In-Person Drop-off, Viewing, or Pickup: You may drop off comments during regular business hours (8 a.m. to 4:30 p.m.) at 500 Gold Street SW., 4th Floor, Room 4336, Albuquerque, NM 87102.

FOR FURTHER INFORMATION CONTACT: Jennifer Sanchez, Project Leader, Texas Mid-Coast National Wildlife Refuge Complex, CCP—Project, 5247 CR 316, Brazoria, TX 77422; phone: 979-964-4011; fax: 979-964-4021.

SUPPLEMENTARY INFORMATION:

Introduction

With this notice, we continue the CCP process for the Texas Mid-Coast NWR Complex. We started this process through a notice in the Federal Register (74 FR 29714; June 23, 2009).

The Complex is located along the upper Texas Gulf Coast, approximately 50 miles south of Houston, Texas. It is comprised of three refuges: Brazoria NWR, which was established in 1966, and encompasses 44,414 acres; San Bernard NWR, which was established in 1968, and encompasses 52,400 acres; and Big Boggy NWR, which was established in 1983, and encompasses 4,526 acres. These lands provide a vital complex of salt and freshwater marshes, sloughs, ponds, coastal prairies, and bottomland hardwood forests that provide habitat for a wide variety of resident and migratory wildlife.

Background

The CCP Process

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for wildlife observation and photography, and environmental education and interpretation. We will review and update the CCP at least every 15 years in accordance with the Refuge Administration Act.

Public Outreach

Formal scoping began with publication of a notice of intent to prepare a comprehensive conservation plan and environmental assessment (EA) in the Federal Register on June 23, 2009 (74 FR 29714). The Refuge solicited comments on issues and concerns to aid in CCP development through three open house meetings held in September 2009.

An ecoregion-wide coordination meeting was held at the Complex's Discovery Center on December 2, 2009, to gain a better understanding of the issues within the Gulf Coast Prairies and Marshes Ecoregion, where the Complex is located, and to determine the Complex's role in addressing issues impacting fish, wildlife, and their habitats within the larger landscape. In February 2010, the Complex met with representatives from the Texas Parks and Wildlife Department to discuss their concerns regarding past management, future management, and issues common to both agencies.

Additional public scoping for the Land Protection Planning process was conducted in January 2012. Three open house meetings were held to provide information on the proposed expansion and respond to questions and concerns.

The feedback received at the conclusion of the public involvement period identified numerous concerns from a variety of stakeholders. These concerns were organized by five broad issue categories and one administrative category: Ecoregion, Habitat, Wildlife, Visitor Services, and Facilities/Infrastructure Management.

CCP Alternatives We Are Considering

During the public scoping process with which we started work on this draft CCP, we, other governmental partners, Tribes, and the public, raised multiple issues. Our draft CCP addresses them. A full description of each alternative is in the EA. To address these issues, we developed and evaluated the following alternatives, summarized below.

Issue topic | Alternative A—no action | Alternative B— proposed action | Alternative C
Ecoregion Management Issue 1: Climate Change | Supplement natural forest regeneration with restoration efforts; monitor carbon sequestration; conduct education programs; and use “green” technologies and building products on all new construction | Same as Alternative A plus increase restoration efforts; utilize exchange of carbon credits; gather baseline data on habitat composition/wildlife diversity; update refuge displays; and increase use of “green” technologies | Same as Alternative B plus increase restoration efforts above described levels.
Ecoregion Management Issue 2: Erosion/Saltwater Intrusion | Construct/Use a variety of structural and some restoration techniques at various locations | Same as Alternative A plus increase the types and amounts of structural and restoration techniques used | Same as Alternative A plus increase the types and amounts of structural and restoration techniques used.
Ecoregion Management Issue: 3 Wildland Fire Use | Follow direction of current Fire Management Plan (FMP) | Same as Alternative A | Same as Alternative A.
Ecoregion Management Issue 4: Petroleum Development | Work cooperatively with companies to minimize impacts to refuge resources | Same as Alternative A | Same as Alternative A.
Ecoregion Management Issue 5: Land Conservation | The Complex will continue to acquire lands under the 1997 Austin's Woods Conservation Plan until the 28,000-acre cap is reached | The Complex will acquire lands under the new Land Protection Plan up to 70,000 acres | Same as Alternative B.
Habitat Management Issue 1: Gulf Coast Prairie and Marshes—Restoration and Management | Cooperative haying conducted; wetland and farmland rehabilitation. Native prairie restoration | Same as Alternative A, plus increase acreage of haying, and increase number of rehabilitation projects. Increase prairie restoration | Same as Alternative B plus develop seed bank on prairie restoration areas.
Habitat Management Issue 2: Gulf Coast Prairie and Marshes—Management of Invasive Species (Flora) | Mechanical, chemical, and prescribed fire use allowed; grazing not allowed | Same as Alternative A plus increase the types and amounts of management prescriptions used, including limited livestock grazing | Same as Alternative B but diversify the types of management prescriptions used, including bison grazing.
Habitat Management Issue 3: Gulf Coast Prairie and Marshes—Prescribed Fire Use | Allowed Complex-wide to improve habitats and reduce hazardous fuels | Same as Alternative A | Same as Alternative A.
Habitat Management Issue 4: Gulf Coast Prairie and Marshes—Farming Program | Cooperative farming and force account farming occur on all three refuges | Same as A, plus incorporate additional moist soil units into farming rotation at Brazoria NWR | Reduce cooperative farming acres at Brazoria NWR and eliminate farming at Big Boggy and San Bernard NWRs.
Habitat Management Issue 5: Gulf Coast Prairie and Marshes—Water Management | Restore prairie pothole hydrology as opportunity arises; use established wells to provide freshwater to moist soil units during drought periods; and purchase water from various water authorities annually | Same as Alternative A plus drill additional wells, and develop new/rehabilitate existing water control structures | Same as Alternative B plus increase water availability through the development of partnerships and purchase of water rights; expand wetlands; and rehabilitate marshes.
Habitat Management Issue 6: Bottomland Hardwood Forest—Restoration | Allow natural regeneration; where appropriate add supplemental planting of hardwood species; treat invasive species | Same as Alternative A | Same as Alternative A.
Habitat Management Issue 7: Bottomland Hardwood Forest—Water Management | Restore previously drained wetlands | Same as Alternative A | Same as Alternative A.
Habitat Management Issue 8: Dune and Beach Management | Management of beach resources has not been clearly defined due to recent silting in of Cedar Lakes Cut and trespass across upland vegetation on private land to access the Cut | Cooperatively work with County and General Land Office (GLO) to provide additional protection on San Bernard Beach restricting type of access and activities by visitors that would be compatible with Refuge Purpose | Same as Alternative B.
Wildlife Management Issue 1: Threatened and Endangered Species | Implement the Sea Turtle Recovery Plan | Same as A, plus if reintroduction of APC and whooping crane occur, implement APC and whooping crane recovery plans | Same as Alternative B.
Wildlife Management Issue 2: Migratory Bird Species and Species of Special Management Concern | Manage a variety of habitats for resting, feeding, and reproductive purposes | Same as Alternative A | Same as Alternative A.
Wildlife Management Issue 3: Management of Invasive Species (Fauna) | Hunting and trapping used to control feral hogs. Baiting and broad scale treatments to control ants | Same as Alternative A plus release natural predators to control ants | Same as Alternative A, but diversify the types of management prescriptions used for each invasive.
Visitor Services Issue 1: Hunting | Allowed in designated areas for waterfowl, youth deer/feral hog hunt on San Bernard NWR, and a youth feral hog hunt. One permit area and ATV use allowed in designated area for disabled hunters | Same as Alternative A plus provide a youth waterfowl hunt; revise the hunting schedule at two locations | Same as Alternative B plus provide a population reduction deer hunt.
Visitor Services Issue 2: Fishing | Allowed on all navigable waters and from designated locations | Same as Alternative A | Same as Alternative A.
Visitor Services Issue 3: Wildlife Observation | Brazoria and San Bernard NWRs open to wildlife observation; visitors directed to designated public use areas | Same as Alternative A plus construct additional photo blinds, new trails, a boardwalk, and road pull-offs to provide for additional opportunity | Same as Alternative B.
Visitor Services Issue 4: Wildlife Photography | Photo blind at Hudson Woods | Same as Alternative A plus develop additional photography opportunities | Same as Alternative B.
Visitor Services Issue 5: Environmental Education | Various programs and events conducted | Same as Alternative A plus increase number of programs conducted and expand programs into additional school districts at San Bernard NWR | Same as Alternative B.
Visitor Services Issue 6: Interpretation | One annual 3-day event | Same as Alternative A plus expand organized interpretive programs at a variety of Refuge venues on a monthly basis | Same as Alternative B.
Visitor Services Issue 7: Preservation of Historic Sites | Historical sites are identified and interpreted in public use areas when appropriate | Same as Alternative A | Same as Alternative A.
Visitor Services Issue 8: Entrance Fee | No entrance fee required | Require entrance fee | Provide donation boxes at various public use areas.
Facilities Issue 1: Visitor Orientation | Visitor contact station located at Brazoria NWR Discovery Center | Same as Alternative A plus additional Visitor Contact Station at San Bernard NWR | Same as Alternative A plus construct stand-alone Visitor Center at San Bernard NWR Field Office.
Facilities Issue 2: Visitor Use—Trails | Hiking trail provided at Brazoria and San Bernard NWRs | Same as Alternative A plus construct a new trail at Brazoria NWR Field Office; provide bicycle access at Dow Woods Unit | Same as Alternative B.
Facilities Issue 3: Visitor—Non-Motorized Boat Launches Visitor | Canoe/Kayak launches provided at San Bernard and Brazoria NWRs | Same as Alternative A plus construct one additional launch | Same as Alternative B plus construct two additional launches.
Facilities Issue 4: Visitor—Signs/Exhibits | Signs and exhibits at Brazoria and San Bernard NWRs | Construct new exhibits and signs and improve quality and content of existing exhibits and signs | Same as Alternative B.
Facilities Issue 5 Visitor—Roadways | Vehicular access allowed on designated refuge roads | Same as Alternative A | Same as Alternative A.
Facilities Issue 6: Administrative—Volunteer | Recreation vehicle pads provided at Brazoria and San Bernard NWRs | Construct new recreation vehicle site at Brazoria NWR, and expand recreation vehicle sites at San Bernard NWR; include additional facilities at both locations | Same as A, plus construct additional facilities at Brazoria NWR.
Facilities Issue 7: Administrative Facilities | A variety of administrative/maintenance facilities available at various refuges | Construct new administrative/maintenance facilities at various refuges | Same as Alternative B.

Public Availability of Documents

In addition to any methods in ADDRESSES, you can view or obtain documents at the following locations:

• Texas Mid-Coast National Wildlife Refuge Complex Headquarters Office, CR 316, Brazoria, TX, between the hours of 8 a.m. and 4:30 p.m., Monday through Friday.

• Our web site: http://www.fws.gov/southwest/refuges/Plan/plansinprogress.html.

• At the following public libraries:

Library | Address | Phone No.
Brazoria County Library City of Lake Jackson Branch | 250 Circle Way, Lake Jackson, TX 77566 | 979-297-1271
Brazoria County Library West Columbia Branch | 518 East Brazos, West Columbia, TX 77486 | 979-345-3394
Bay City Public Library | 1100 7th Street, Bay City, Texas 77414 | 979-245-6931

Submitting Comments/Issues for Comment

We consider comments substantive if they:

• Question, with reasonable basis, the accuracy of the information in the document;

• Question, with reasonable basis, the adequacy of the environmental assessment (EA);

• Present reasonable alternatives other than those presented in the EA; and/or

• Provide new or additional information relevant to the assessment.

Next Steps

After this comment period ends, we will analyze the comments and address them in the form of a final CCP and finding of no significant impact.

Public Availability of Comments

Before including your address, phone number, email address, or other personal identifying information in your comment, you should be aware that your entire comment—including your personal identifying information—may be made publicly available at any time. While you can ask us in your comment to withhold your personal identifying information from public review, we cannot guarantee that we will be able to do so.

Dated: July 26, 2012.
Joy E. Nicholopoulos,
Regional Director, Southwest Region.

[FR Doc. 2012-19891 Filed 8-14-12; 8:45 am]

BILLING CODE 4310-55-P